DEPARTMENT OF LABOR

Office of the Secretary

Submission for OMB Review; Comment Request

July 27, 2004.

The Department of Labor (DOL) has submitted the following public information collection request (ICR) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Program Monitoring Report and Job Service Complaint Form.

OMB Number: 1205-0039.

Frequency: On occasion; quarterly; annually.

Total number of Respondents : 52.

Number of Responses: 208.

Form | Affected public | Respondents | Average time per response | Total hours
ETA 8429:
Recordkeeping | Local Office | 639 | 30 minutes | 324
Processing | Local Offices | 2,142 | 8 minutes | 286
ETA 5148:
Recordkeeping | Local Offices | 639 | 1.12 hours | 713
Processing | State government | 208 reports | 70 minutes | 243

Total hours: 5,537.

Total annualized capital startup cost: $0.

Total annual costs (operating/maintaining systems or purchasing services: $0.

Description: The Job Service forms are necessary as part of Federal Regulations at 20 CFR parts 651, 653 and 658 published as a result of NAACP vs. Brock. The forms allow the U.S. Employment Service to track regulatory compliance of services provided to MSFWs by the State Employment Service Agencies.

Ira L. Mills,
Departmental Clearance Officer.

[FR Doc. 04-17713 Filed 8-3-04; 8:45 am]

BILLING CODE 4510-30-P